POSTAL SERVICE

39 CFR Part 501

Authorization to Manufacturer and Distribute Postage Meters

AGENCY: Postal Service.

ACTION: Final rule.

SUMMARY: This rule clarifies and enhances cautionary label markings required by Postal Service regulation to be placed on all postage meters to provide meter users with basic reminders on leasing, meter movement, and misuse. It also removes the obsolete requirement for the placement of a barcode label containing representation of meter serial numbers.

The meter manufacturer must promptly develop and implement a plan to change out the labels on existing meters leased or rented, including rebuilding, manufacturing, servicing, and inspection programs to expedite application of the new label. These plans must be approved by the Postage Technology Management office.

DATES: This rule is effective January 5, 2005.

FOR FURTHER INFORMATION CONTACT: Wayne Wilkerson, manager of Postage Technology Management, at 1735 N. Lynn Street, Rosslyn, VA 22209 or by telephone at 703-292-3691 or fax at 703-292-4073.

SUPPLEMENTARY INFORMATION: Title 39, Code of Federal Regulations (CFR) Part 501.23, Distribution Controls, section (r) requires postage meter manufacturers to affix a cautionary label to all postage meters to provide meter users with basic reminders on leasing, meter movement, and misuse. Further, section (r)(1) illustrates specific markings to be placed on cautionary labels. Experience with inadvertent use of the U.S. Postal Inspection Service telephone number to obtain general information has led to the need to clarify the label in order to emphasize manufacturer information and enhance direction to the customer. Section (2) currently requires a barcode label that is no longer relevant as a Postal Service requirement because of technology advances. The Postal Service has determined to remove the barcode label as an explicit requirement and leave it to the manufacturers' discretion depending on independent use of the barcode label.

List of Subjects in 39 CFR Part 501

Administrative practice and procedure, Postal Service.

The Amendment

For the reasons set out in this document, the Postal Service is amending 39 CFR part 501 as follows:

PART 501—AUTHORIZATION TO MANUFACTURE AND DISTRIBUTE POSTAGE METERS

1. The authority citation for Part 501 continues to read as follows:

Authority: 5 U.S.C. 552(a); 39 U.S.C. 101, 401, 403, 404, 410, 2601, 2605; Inspector General Act of 1978, as amended (Pub. L. 95'452, as amended); 5 U.S.C. App. 3.

2. Revise § 501.23(r) to read as follows:

§ 501.23 Distribution controls.

* * * * *

(r) Affix to all meters a cautionary label providing the meter user with basic reminders on leasing and meter movement.

(1) The cautionary label must be placed on all meters in a conspicuous and highly visible location. “PROPERTY OF [NAME OF MANUFACTURER]” as well as the manufacturer's toll-free number must be emphasized by capitalized bold type and preferably printed in red. The minimum width of the label should be 3.25 inches, and the minimum height should be 1.75 inches. The label should read as follows:

RENTED POSTAGE METER—NOT FOR SALE

PROPERTY OF [NAME OF MANUFACTURER]

(800) ###-####

Use of this meter is permissible only under U.S. Postal Service authorization. Call [Name of Manufacturer] at (800) ###- #### to relocate/return this meter.

WARNING! METER TAMPERING IS A FEDERAL OFFENSE.

IF YOU SUSPECT METER TAMPERING, CALL POSTAL INSPECTORS AT 1-800-372-8347

REWARD UP TO $50,000 for information leading to the conviction of any person who misuses postage meters resulting in the Postal Service not receiving correct postage payments.

(2) Exceptions to the formatting of required labeling are determined on a case-by-case basis. Any deviation from standardized meter labeling requirements must be approved in writing by the Postal Service.

* * * * *

Neva Watson,
Attorney, Legislative.

[FR Doc. 05-134 Filed 1-4-05; 8:45 am]

BILLING CODE 7710-12-U